DEPARTMENT OF THE TREASURY

Proposed Collection; Comment Request; Office of the Procurement Executive

AGENCY: Department of the Treasury, Departmental Offices.

ACTION: Notice and request for comments.

SUMMARY: The Department of the Treasury, Office of the Procurement Executive, is soliciting comments concerning information collection No. 1505-0107—Regulation Agency Protests that is scheduled to expire February 28, 2017.

DATES: Written comments must be received on or before February 17, 2017 to be assured of consideration.

ADDRESSES: You may submit comments by any of the following methods:

Email: Thomas.olinn@treasury.gov. The subject line should contain the OMB number and title for which you are commenting. Mail: Thomas O'Linn, Office of the Procurement Executive, Department of the Treasury, 1722 I Street NW., Mezzanine, Washington, DC 20006. All responses to this notice will be included in the request for OMB's approval. All comments will also become a matter of public record.

FOR FURTHER INFORMATION CONTACT: Requests for additional information or request a copy of the information collection should be directed to Thomas O'Linn (202) 622-2092.

SUPPLEMENTARY INFORMATION: OMB Number: 1505-0107.

Type of Review: Extension without change of a currently approved collection.

Title: Regulation Agency Protests.

Abstract: This notice provides a request to continue including the designated OMB Control Number on information requested from contractors. The information is requested from contractors so that the Government will be able to evaluate protests effectively and provide prompt resolution of issues to dispute when contractors file agency level protests.

Affected Public: Private Sector: Businesses or other for-profits.

Estimated Number of Respondents: 9.

Estimated Number of Responses per Respondent: 1.

Estimated Hours per Response: 2.

Estimated Total Annual Burden Hours: 18.

Request For Comments: The Department of the Treasury invites the general public and other Federal agencies to comment on an extension of an existing information collection, as required by the Paperwork Reduction Act of 1995, Public Law 104-13 (44 U.S.C. 3506(c)(2)(A)). Comments submitted in response to this notice will be summarized and included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Bob Faber,
Acting Treasury PRA Clearance Officer.

[FR Doc. 2016-30403 Filed 12-16-16; 8:45 am]

BILLING CODE 4810-25-P